ENVIRONMENTAL PROTECTION AGENCY

[FRL-OW-FRL-8730-5]

Notice of Data Availability: The Toxicity of Selenium to Aquatic Life as Related to Developing a Recommended Aquatic Life Criterion

AGENCY: Environmental Protection Agency (EPA).

ACTION: Notice of availability.

SUMMARY: The Environmental Protection Agency (EPA) announces the availability of a technical report titled “Effect of Selenium on Juvenile Bluegill Sunfish at Reduced Temperature.” It describes the results from testing the toxicity of selenium to juvenile bluegill sunfish under winter temperature conditions. EPA is also making available a list of “References for Selenium Chronic Toxicity Data Obtained Since 2004”, indicating other information that EPA has recently obtained. EPA may use the information announced here in the derivation of a selenium water quality criterion for protection of aquatic life.

DATES: Scientific information and views on the material cited herein should be submitted by November 26, 2008. Scientific views postmarked after this date might not be considered.

ADDRESSES: If you wish to submit information relevant to the material announced, you may do so by one of the following methods:

• http://www.regulations.gov: Follow the on-line instructions for submitting scientific views.

• E-mail: OW-Docket@epa.gov.

• Mail: U.S. Environmental Protection Agency; EPA Docket Center (EPA/DC) Water Docket, MC 2822T; 1200 Pennsylvania Avenue, NW., Washington, DC 20460.

• Hand Delivery: EPA Docket Center, 1301 Constitution Ave., NW., EPA West, Room 3334, Washington, DC. Such deliveries are only accepted during the Docket's normal hours of operation, and special arrangements should be made for deliveries of boxed information.

Instructions: Direct your scientific views to Docket ID No. EPA-HQ-OW-2004-0019. EPA's policy is that all scientific views received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment.

If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. Visit the EPA Docket Center homepage at http://www.epa.gov/epahome/dockets.htm for additional information about EPA's public docket.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Office of Water Docket/EPA/DC, 1301 Constitution Ave., NW., EPA West, Room 3334, Washington, DC. This Docket Facility is open from 8:30 a.m. until 4:30 p.m., EST, Monday through Friday, excluding legal holidays. The telephone number for the Public Reading Room is (202) 566-1744, and the telephone number for the Office of Water is (202) 566-2426.

FOR FURTHER INFORMATION CONTACT: Charles Delos, delos.charles@epa.gov or postal address, Mail Code 4304T, U.S. EPA, 1200 Pennsylvania Avenue, NW., Washington, DC 20460.

SUPPLEMENTARY INFORMATION:

I. Who might be interested in this information?

This information may be useful to scientists involved in selenium hazard assessment for aquatic life.

II. What is the relationship of this material to water quality criteria?

EPA may use the information announced here in the derivation of a water quality criterion for protection of aquatic life. Nevertheless, in part because the new information is only a portion of all data relevant to deriving a criterion, EPA's future criteria recommendations cannot be directly inferred from it.

III. What are EPA recommended water quality criteria?

EPA recommended water quality criteria are scientifically derived numeric values that protect aquatic life or human health from the deleterious effects of pollutants in ambient water. Section 304(a)(1) of the Clean Water Act requires EPA to develop and publish and, from time to time, revise, recommended water quality criteria to accurately reflect the latest scientific knowledge. Water quality criteria developed under section 304(a) are based solely on data and scientific judgments on the relationship between pollutant concentrations and environmental and human health effects. Section 304(a) criteria do not reflect consideration of economic impacts or the technological feasibility of meeting the chemical concentrations in ambient water. Section 304(a) criteria provide guidance to States and authorized Tribes in adopting water quality standards that ultimately provide a basis for controlling discharges or releases of pollutants. The criteria also provide guidance to EPA when promulgating federal regulations under section 303(c) when such action is necessary. EPA's recommended water quality criteria do not substitute for the CWA or regulations, nor are they regulations themselves. Thus, EPA's recommended criteria do not impose legally binding requirements. States and authorized Tribes have the discretion to adopt, where appropriate, other scientifically defensible water quality standards that differ from these recommendations.

IV. Why did EPA perform the bluegill sunfish toxicity test?

On December 17, 2004 (69 FR 75541), EPA announced the availability of a draft revision of its currently recommended aquatic life water quality criteria for selenium, and solicited scientific information, data, and views thereon. Some of the responses from the public indicated that EPA's interpretation of a key study, involving juvenile bluegill sunfish under winter temperature conditions, was problematic due to limitations of the study design and lack of corroboration. To address these problems, EPA has undertaken and completed a new study, designed to establish an unambiguous threshold concentration for the effect. The document “Effect of Selenium on Juvenile Bluegill Sunfish at Reduced Temperature” in the docket for this notice describes this work. EPA intends to review any scientific information, data and views submitted in response to today's notice, along with the information previously submitted to EPA. For additional information on EPA's draft aquatic life water quality criterion for selenium, see http://www.epa.gov/waterscience/criteria/selenium/.

V. Why did EPA obtain the other information in its reference list?

With the intent that any future revision of the selenium criterion reflect the latest scientific information, EPA has searched the literature for new data. Interested persons have also submitted data to EPA. “References for Selenium Chronic Toxicity Data Obtained Since 2004” lists these studies.

Dated: October 9, 2008.
Ephraim S. King,
Director, Office of Science and Technology.

[FR Doc. E8-25519 Filed 10-24-08; 8:45 am]

BILLING CODE 6560-50-P